DEPARTMENT OF JUSTICE

Notice of Lodging of Consent Decree Under the Clean Air Act

In accordance with 28 CFR 50.7, notice is hereby given that on May 16, 2006, a proposed Consent Decree in United States v. Newly Weds Foods, Inc., Civil Action No. 06 C 2706, was lodged with the United States District Court for the Northern District of Illinois.

In a Complaint filed on the same day as the lodging of the proposed Consent Decree, the United States sought injunctive relief and civil penalties for violations of the industrial refrigerant repair, record-keeping, and reporting regulations at 40 CFR 82.152-82.166 (Recycling and Emission Reduction) promulgated by the Environmental Protection Agency (“EPA”) under Subchapter VI of the Act (Stratospheric Ozone Protection), 42 U.S.C. 7671-7671q, at one or more of Newly Weds' eight United States facilities, which are located in Chicago, Illinois; Watertown, Massachusetts; Bethlehem, Pennsylvania; Cleveland, Tennessee; Horn Lake, Mississippi; Springdale, Arkansas; Gerald, Missouri; and Modesto, California. In the proposed Consent Decree, Newly Weds agrees to (1) retrofit or retire all thirty-nine of its industrial process refrigeration equipment systems at the eight United States facilities that are designed to hold more than 50 pounds of ozone depleting refrigerants at full charge with systems that use only non-ozone depleting refrigerants by July 1, 2008 and (2) pay a $125,000 penalty to the United States.

The Department of Justice will receive comments relating to the proposed Consent Decree for a period of thirty days from the date of this publication. Comments should be addressed to the Assistant Attorney General, Environment and Natural Resources Division, P.O. Box 7611, U.S. Department of Justice, Washington, DC 20044-7611, and should refer to: United States v. Newly Weds Foods, Inc., D.J. Ref. 90-5-2-1-07985.

The Consent Decree may be examined at the Office of the United States Attorney for the Northern District of Illinois, 219 South Dearborn Street, Chicago, Illinois 60604, and at U.S. EPA Region 5, 77 West Jackson Blvd., Chicago, IL 60604. During the public comment period the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50 (25 cents per page reproduction cost) payable to the U.S. Treasury.

William D. Brighton,
Assistant Chief, Environmental Enforcement Section, Environment and Natural Resources Division.

[FR Doc. 06-5015 Filed 5-31-06; 8:45 am]

BILLING CODE 4410-15-M